FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel-Operating Common Carrier Ocean Transportation Intermediary Applicants

Atlantic Express Corporation, 7751 W. 88th Street, Bridgeview, IL 60455. Officer:Jolanta Latvys, President (Qualifying Individual).

Top Since Logistics, Inc., 600 W. Main Street, #211, Alhambra, CA 91801. Officers:Pair L. Williams,Vice President (Qualifying Individual), Wei Weiwen, President.

Non-Vessel-Operating Common Carrier and Ocean Freight Forwarder Transportation Intermediary Applicants

The Maritime Company For Navigation U.S.A., Inc. dba The Maritime Company For Navigation, 330 Snyder Ave., Berkeley Heights, NJ 07922. Officer:Ahmed Singer, President (Qualifying Individual).

Grimes Supply Chain Services, Inc., 14500 Hyatt Rd., Jacksonville, FL 32218. Officer:Kathryn Couch, Asst. Secretary (Qualifying Individual).

Simos Logistics Co., Inc., 732 S. Raven Rd., Shorewood, IL 60404. Officers:Laura M. Konieczny, Vice President (Qualifying Individual), Vicente A. Simos, President.

Cortez Customhouse Brokerage Company, 4950 West Dickman Rd., Battle Creek, MI 49037. Officer:Dustin H. King, Vice President (Qualifying Individual).

Poseidon Shipping Lines Inc., 430 S. Garfield Ave., Suite 325, Alhambra, CA 91801. Officers:Eric Yuan H. Wang, Vice President (Qualifying Individual), Yu Li, President.

New Horizon Shipping, Inc., 29234 Kester Lane, Laguna Niguel, CA 92677. Officer:Gihan Zahran, CEO (Qualifying Individual).

Ocean Freight Forwarder—Ocean Transportation Intermediary Applicants

TLR-Total Logistics Resource, Inc., dba Innovative Freighting, 5362 NE 112th Ave., Portland, OR 97220. Officer:Teresa M. Bartle, President (Qualifying Individual).

Venture Logistics Inc., 9280 Rutledge Ave., Boca Raton, FL 33434. Officer:Kevin Goddard, President (Qualifying Individual).

ATEC Logistics, LLC, 650 South Northlake Blvd., Altamonte Springs, FL 32701. Officers:Patrick Ferry, Managing Member (Qualifying Individual), Michael L. Clements, President.

Partenaire Co., 200 Park Avenue, Suite 104, Falls Church, VA 22046. Officer:Thierry Reiter, President (Qualifying Individual).

Total Global Solutions, Inc., 4290 Bells Ferry Rd., #224, Kennesaw, GA 30144. Officers:Kathleen G. Molnar, Secretary, Natasha S. Gardner, Treasurer (Qualifying Individuals), Dennis R. Smith, President.

Dated: May 22, 2009.
Karen V. Gregory,
Secretary.

[FR Doc. E9-12424 Filed 5-27-09; 8:45 am]

BILLING CODE 6310-01-P